DEPARTMENT OF THE INTERIOR

National Park Service

[NPS-WASO-NRNHL-DTS#-27568; PPWOCRADI0, PCU00RP14.R50000]

National Register of Historic Places; Notification of Pending Nominations and Related Actions

AGENCY: National Park Service, Interior.

ACTION: Notice.

SUMMARY: The National Park Service is soliciting comments on the significance of properties nominated before March 23, 2019, for listing or related actions in the National Register of Historic Places.

DATES: Comments should be submitted by April 22, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 23, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

La Plata County

Animas City School, 3065 W 2nd Ave., Durango, SG100003687

DISTRICT OF COLUMBIA

District of Columbia

Harewood Lodge, 3600 Harewood Rd. NE, Washington, SG100003672

KENTUCKY

Boone County

Johnson, Captain Benjamin, River House (Boone County, Kentucky MPS), 9260 River Rd., Hebron, MP100003682

Letcher County

Back, David, Log House and Farm, Address Restricted, Blackley vicinity, SG100003680

McCracken County

Pettit Building, 1135 Park Ave., Paducah, SG100003681

Whitley County

Williamsburg Historic District, Main & Main Cross Sts., Williamsburg, SG100003683

NEW JERSEY

Mercer County

Princeton Battlefield (Boundary Increase), Princeton Battlefield State Park, Princeton, BC100003698

NEW MEXICO

Bernalillo County

Congregation B'nai Israel, 4401 Indian School Rd., Albuquerque, SG100003674

Valencia County

Belen City Hall (New Deal in New Mexico MPS), 503 Becker Ave., Belen, MP100003676

PUERTO RICO

Caguas Municipality

Carretera Central, PR 1 from km. 40 to 55.4, PR 735 from km. 0.0 to 2.5 & PR 14 from km. 10.0 to 74.0, Caguas, SG100003686

SOUTH CAROLINA

Beaufort County

Campbell Chapel AME Church, 23 Boundary St., Bluffton, SG100003688

Charleston County

Faber House, 635 E Bay St., Charleston, SG100003689

Sottile, Giovanni, House, 81 Rutledge Ave., Charleston, SG100003690

A request for removal has been made for the following resource:

ALASKA

Valdez-Cordova Borough

Reception Building, 2nd and B Sts., Cordova, OT80004566

Additional documentation has been received for the following resources:

NEW JERSEY

Mercer County

Princeton Battlefield, Princeton Battlefield State Park, Princeton, AD66000466

NEW MEXICO

Santa Fe County

Fairview Cemetery, 1134 Cerrillos Rd., Santa Fe, AD04001517

NEW YORK

Onondaga County

North Salina Street Historic District, 517-519 to 947-951 & 522-524 to 850-854 N Salina St., 1121 N Townsend St. & 504-518 Prospect Ave., Syracuse, AD85002441

VIRGINIA

Northampton County

Cape Charles Historic District, Roughly bounded by Washington, Bay & Mason Aves. & Fig St., Cape Charles, AD90002122

Prince Edward County

Hampden-Sydney College Historic District, Bounded approximately by the Hampden-Sydney College campus, Hampden-Sydney, AD70000822

Nominations submitted by Federal Preservation Officers:

The State Historic Preservation Officer reviewed the following nomination(s) and responded to the Federal Preservation Officer within 45 days of receipt of the nomination(s) and supports listing the properties in the National Register of Historic Places.

COLORADO

Arapahoe County

Littleton Post Office, 5753 S Prince St., Littleton, SG100003671

UTAH

Grand County

42GR42—Bartlett Flats Pictograph Alcove (Rock Art and Archaeology of Moab's Colorado River System MPS), Address Restricted, Moab vicinity, MP100003695

42GR45 (Rock Art and Archaeology of Moab's Colorado River System MPS), Address Restricted, Moab vicinity, MP100003696

42GR177—Twin Forts Behind the Rocks (Rock Art and Archaeology of Moab's Colorado River System MPS), Address Restricted, Moab vicinity, MP100003699

42GR237 (Rock Art and Archaeology of Moab's Colorado River System MPS), Address Restricted, Moab vicinity, MP100003700

42GR238 (Rock Art and Archaeology of Moab's Colorado River System MPS), Address Restricted, Moab vicinity, MP100003702

42GR239 (Rock Art and Archaeology of Moab's Colorado River System MPS), Address Restricted, Moab vicinity, MP100003703

42GR303 (Rock Art and Archaeology of Moab's Colorado River System MPS), Address Restricted, Moab vicinity, MP100003704

42GR305 (Rock Art and Archaeology of Moab's Colorado River System MPS), Address Restricted, Moab vicinity, MP100003705

42GR308 (Rock Art and Archaeology of Moab's Colorado River System MPS), Address Restricted, Moab vicinity, MP100003706

42GR312 (Rock Art and Archaeology of Moab's Colorado River System MPS), Address Restricted, Moab vicinity, MP100003707

42GR315 (Rock Art and Archaeology of Moab's Colorado River System MPS), Address Restricted, Moab vicinity, MP100003708

42GR318 (Rock Art and Archaeology of Moab's Colorado River System MPS), Address Restricted, Moab vicinity, MP100003709

42GR329 (Rock Art and Archaeology of Moab's Colorado River System MPS), Address Restricted, Moab vicinity, MP100003710

42GR399 (Rock Art and Archaeology of Moab's Colorado River System MPS), Address Restricted, Moab vicinity, MP100003711

42GR408 (Rock Art and Archaeology of Moab's Colorado River System MPS), Address Restricted, Moab vicinity, MP100003712

42GR479 (Rock Art and Archaeology of Moab's Colorado River System MPS), Address Restricted, Moab vicinity, MP100003713

42GR482 (Rock Art and Archaeology of Moab's Colorado River System MPS), Address Restricted, Moab vicinity, MP100003714

42GR601 (Rock Art and Archaeology of Moab's Colorado River System MPS), Address Restricted, Moab vicinity, MP100003715

42GR984 (Rock Art and Archaeology of Moab's Colorado River System MPS), Address Restricted, Moab vicinity, MP100003716

42GR985 (Rock Art and Archaeology of Moab's Colorado River System MPS), Address Restricted, Moab vicinity, MP100003717

42GR986 (Rock Art and Archaeology of Moab's Colorado River System MPS), Address Restricted, Moab vicinity, MP100003718

42GR1311 (Rock Art and Archaeology of Moab's Colorado River System MPS), Address Restricted, Moab vicinity, MP100003719

42GR1312 (Rock Art and Archaeology of Moab's Colorado River System MPS), Address Restricted, Moab vicinity, MP100003720

42GR1410 (Rock Art and Archaeology of Moab's Colorado River System MPS), Address Restricted, Moab vicinity, MP100003721

42GR1411 (Rock Art and Archaeology of Moab's Colorado River System MPS), Address Restricted, Moab vicinity, MP100003722

42GR1412 (Rock Art and Archaeology of Moab's Colorado River System MPS), Address Restricted, Moab vicinity, MP100003723

42GR1861 (Rock Art and Archaeology of Moab's Colorado River System MPS), Address Restricted, Moab vicinity, MP100003724

42GR1873 (Rock Art and Archaeology of Moab's Colorado River System MPS), Address Restricted, Moab vicinity, MP100003725

42GR1874 (Rock Art and Archaeology of Moab's Colorado River System MPS), Address Restricted, Moab vicinity, MP100003726

42GR1984 (Rock Art and Archaeology of Moab's Colorado River System MPS), Address Restricted, Moab vicinity, MP100003727

42GR2065 (Rock Art and Archaeology of Moab's Colorado River System MPS), Address Restricted, Moab vicinity, MP100003728

42GR2066 (Rock Art and Archaeology of Moab's Colorado River System MPS), Address Restricted, Moab vicinity, MP100003729

42GR2067 (Rock Art and Archaeology of Moab's Colorado River System MPS), Address Restricted, Moab vicinity, MP100003730

42GR2068 (Rock Art and Archaeology of Moab's Colorado River System MPS), Address Restricted, Moab vicinity, MP100003731

42GR2092 (Rock Art and Archaeology of Moab's Colorado River System MPS), Address Restricted, Moab vicinity, MP100003732

42GR2166 (Rock Art and Archaeology of Moab's Colorado River System MPS), Address Restricted, Moab vicinity, MP100003733

42GR2174—Red Basketmaker Site (Rock Art and Archaeology of Moab's Colorado River System MPS), Address Restricted, Moab vicinity, MP100003734

42GR2182 (Rock Art and Archaeology of Moab's Colorado River System MPS), Address Restricted, Moab vicinity, MP100003735

42GR2183 (Rock Art and Archaeology of Moab's Colorado River System MPS), Address Restricted, Moab vicinity, MP100003736

42GR2184 (Rock Art and Archaeology of Moab's Colorado River System MPS), Address Restricted, Moab vicinity, MP100003737

42GR2185 (Rock Art and Archaeology of Moab's Colorado River System MPS), Address Restricted, Moab vicinity, MP100003738

42GR2186 (Rock Art and Archaeology of Moab's Colorado River System MPS), Address Restricted, Moab vicinity, MP100003739

42GR2187 (Rock Art and Archaeology of Moab's Colorado River System MPS), Address Restricted, Moab vicinity, MP100003740

42GR2188 (Rock Art and Archaeology of Moab's Colorado River System MPS), Address Restricted, Moab vicinity, MP100003741

42GR2194 (Rock Art and Archaeology of Moab's Colorado River System MPS), Address Restricted, Moab vicinity, MP100003742

42GR2196 (Rock Art and Archaeology of Moab's Colorado River System MPS), Address Restricted, Moab vicinity, MP100003743

42GR2211 (Rock Art and Archaeology of Moab's Colorado River System MPS), Address Restricted, Moab vicinity, MP100003744

42GR2215 (Rock Art and Archaeology of Moab's Colorado River System MPS), Address Restricted, Moab vicinity, MP100003745

42GR2217 (Rock Art and Archaeology of Moab's Colorado River System MPS), Address Restricted, Moab vicinity, MP100003746

42GR2219 (Rock Art and Archaeology of Moab's Colorado River System MPS), Address Restricted, Moab vicinity, MP100003747

42GR2221 (Rock Art and Archaeology of Moab's Colorado River System MPS), Address Restricted, Moab vicinity, MP100003748

42GR2243 (Rock Art and Archaeology of Moab's Colorado River System MPS), Address Restricted, Moab vicinity, MP100003749

42GR2244 (Rock Art and Archaeology of Moab's Colorado River System MPS), Address Restricted, Moab vicinity, MP100003750

42GR2246 (Rock Art and Archaeology of Moab's Colorado River System MPS), Address Restricted, Moab vicinity, MP100003751

42GR2337 (Rock Art and Archaeology of Moab's Colorado River System MPS), Address Restricted, Moab vicinity, MP100003752

42GR2338 (Rock Art and Archaeology of Moab's Colorado River System MPS), Address Restricted, Moab vicinity, MP100003753

42GR2339 (Rock Art and Archaeology of Moab's Colorado River System MPS), Address Restricted, Moab vicinity, MP100003754

42GR2340 (Rock Art and Archaeology of Moab's Colorado River System MPS), Address Restricted, Moab vicinity, MP100003755

42GR2612 (Rock Art and Archaeology of Moab's Colorado River System MPS), Address Restricted, Moab vicinity, MP100003756

42GR2613 (Rock Art and Archaeology of Moab's Colorado River System MPS), Address Restricted, Moab vicinity, MP100003757

42GR2614 (Rock Art and Archaeology of Moab's Colorado River System MPS), Address Restricted, Moab vicinity, MP100003758

42GR2616 (Rock Art and Archaeology of Moab's Colorado River System MPS), Address Restricted, Moab vicinity, MP100003759

42GR2617 (Rock Art and Archaeology of Moab's Colorado River System MPS), Address Restricted, Moab vicinity, MP100003760

42GR2618 (Rock Art and Archaeology of Moab's Colorado River System MPS), Address Restricted, Moab vicinity, MP100003761

42GR2621 (Rock Art and Archaeology of Moab's Colorado River System MPS), Address Restricted, Moab vicinity, MP100003762

42GR2623 (Rock Art and Archaeology of Moab's Colorado River System MPS), Address Restricted, Moab vicinity, MP100003763

42GR2624 (Rock Art and Archaeology of Moab's Colorado River System MPS), Address Restricted, Moab vicinity, MP100003764

42GR2625 (Rock Art and Archaeology of Moab's Colorado River System MPS), Address Restricted, Moab vicinity, MP100003765

42GR2626 (Rock Art and Archaeology of Moab's Colorado River System MPS), Address Restricted, Moab vicinity, MP100003766

42GR2627 (Rock Art and Archaeology of Moab's Colorado River System MPS), Address Restricted, Moab vicinity, MP100003767

42GR2693 (Rock Art and Archaeology of Moab's Colorado River System MPS), Address Restricted, Moab vicinity, MP100003768

42GR2695 (Rock Art and Archaeology of Moab's Colorado River System MPS), Address Restricted, Moab vicinity, MP100003769

42GR2789 (Rock Art and Archaeology of Moab's Colorado River System MPS), Address Restricted, Moab vicinity, MP100003770

42GR2863 (Rock Art and Archaeology of Moab's Colorado River System MPS), Address Restricted, Moab vicinity, MP100003771

42GR2891 (Rock Art and Archaeology of Moab's Colorado River System MPS), Address Restricted, Moab vicinity, MP100003772

42GR2892 (Rock Art and Archaeology of Moab's Colorado River System MPS), Address Restricted, Moab vicinity, MP100003773

42GR2894 (Rock Art and Archaeology of Moab's Colorado River System MPS), Address Restricted, Moab vicinity, MP100003774

42GR2895 (Rock Art and Archaeology of Moab's Colorado River System MPS), Address Restricted, Moab vicinity, MP100003775

42GR2896 (Rock Art and Archaeology of Moab's Colorado River System MPS), Address Restricted, Moab vicinity, MP100003776

42GR2897 (Rock Art and Archaeology of Moab's Colorado River System MPS), Address Restricted, Moab vicinity, MP100003777

42GR2898 (Rock Art and Archaeology of Moab's Colorado River System MPS), Address Restricted, Moab vicinity, MP100003778

42GR2900 (Rock Art and Archaeology of Moab's Colorado River System MPS), Address Restricted, Moab vicinity, MP100003779

42GR2901 (Rock Art and Archaeology of Moab's Colorado River System MPS), Address Restricted, Moab vicinity, MP100003780

42GR2902 (Rock Art and Archaeology of Moab's Colorado River System MPS), Address Restricted, Moab vicinity, MP100003781

42GR2903 (Rock Art and Archaeology of Moab's Colorado River System MPS), Address Restricted, Moab vicinity, MP100003782

42GR2904 (Rock Art and Archaeology of Moab's Colorado River System MPS), Address Restricted, Moab vicinity, MP100003783

42GR2910 (Rock Art and Archaeology of Moab's Colorado River System MPS), Address Restricted, Moab vicinity, MP100003784

42GR2911 (Rock Art and Archaeology of Moab's Colorado River System MPS), Address Restricted, Moab vicinity, MP100003785

42GR2912 (Rock Art and Archaeology of Moab's Colorado River System MPS), Address Restricted, Moab vicinity, MP100003786

42GR2926 (Rock Art and Archaeology of Moab's Colorado River System MPS), Address Restricted, Moab vicinity, MP100003787

42GR2927 (Rock Art and Archaeology of Moab's Colorado River System MPS), Address Restricted, Moab vicinity, MP100003788

42GR2928 (Rock Art and Archaeology of Moab's Colorado River System MPS), Address Restricted, Moab vicinity, MP100003789

42GR2929 (Rock Art and Archaeology of Moab's Colorado River System MPS), Address Restricted, Moab vicinity, MP100003790

42GR2930 (Rock Art and Archaeology of Moab's Colorado River System MPS), Address Restricted, Moab vicinity, MP100003791

42GR2931 (Rock Art and Archaeology of Moab's Colorado River System MPS), Address Restricted, Moab vicinity, MP100003792

42GR2932 (Rock Art and Archaeology of Moab's Colorado River System MPS), Address Restricted, Moab vicinity, MP100003793

42GR2933 (Rock Art and Archaeology of Moab's Colorado River System MPS), Address Restricted, Moab vicinity, MP100003794

42GR2934 (Rock Art and Archaeology of Moab's Colorado River System MPS), Address Restricted, Moab vicinity, MP100003795

42GR2935 (Rock Art and Archaeology of Moab's Colorado River System MPS), Address Restricted, Moab vicinity, MP100003796

42GR2936 (Rock Art and Archaeology of Moab's Colorado River System MPS), Address Restricted, Moab vicinity, MP100003797

42GR2937 (Rock Art and Archaeology of Moab's Colorado River System MPS), Address Restricted, Moab vicinity, MP100003798

42GR2944 (Rock Art and Archaeology of Moab's Colorado River System MPS), Address Restricted, Moab vicinity, MP100003799

42GR2945 (Rock Art and Archaeology of Moab's Colorado River System MPS), Address Restricted, Moab vicinity, MP100003800

42GR2946 (Rock Art and Archaeology of Moab's Colorado River System MPS), Address Restricted, Moab vicinity, MP100003801

42GR2947 (Rock Art and Archaeology of Moab's Colorado River System MPS), Address Restricted, Moab vicinity, MP100003802

42GR2948 (Rock Art and Archaeology of Moab's Colorado River System MPS), Address Restricted, Moab vicinity, MP100003803

42GR2949 (Rock Art and Archaeology of Moab's Colorado River System MPS), Address Restricted, Moab vicinity, MP100003804

42GR2950 (Rock Art and Archaeology of Moab's Colorado River System MPS), Address Restricted, Moab vicinity, MP100003805

42GR2953 (Rock Art and Archaeology of Moab's Colorado River System MPS), Address Restricted, Moab vicinity, MP100003806

42GR2952 (Rock Art and Archaeology of Moab's Colorado River System MPS), Address Restricted, Moab vicinity, MP100003807

42GR2951 (Rock Art and Archaeology of Moab's Colorado River System MPS), Address Restricted, Moab vicinity, MP100003808

42GR2954 (Rock Art and Archaeology of Moab's Colorado River System MPS), Address Restricted, Moab vicinity, MP100003809

42GR2955 (Rock Art and Archaeology of Moab's Colorado River System MPS), Address Restricted, Moab vicinity, MP100003810

42GR2956 (Rock Art and Archaeology of Moab's Colorado River System MPS), Address Restricted, Moab vicinity, MP100003811

42GR2964 (Rock Art and Archaeology of Moab's Colorado River System MPS), Address Restricted, Moab vicinity, MP100003812

42GR2995 (Rock Art and Archaeology of Moab's Colorado River System MPS), Address Restricted, Moab vicinity, MP100003813

42GR2996 (Rock Art and Archaeology of Moab's Colorado River System MPS), Address Restricted, Moab vicinity, MP100003814

42GR2997 (Rock Art and Archaeology of Moab's Colorado River System MPS), Address Restricted, Moab vicinity, MP100003815

42GR2998 (Rock Art and Archaeology of Moab's Colorado River System MPS), Address Restricted, Moab vicinity, MP100003816

42GR2999 (Rock Art and Archaeology of Moab's Colorado River System MPS), Address Restricted, Moab vicinity, MP100003817

42GR3000 (Rock Art and Archaeology of Moab's Colorado River System MPS), Address Restricted, Moab vicinity, MP100003818

42GR3001 (Rock Art and Archaeology of Moab's Colorado River System MPS), Address Restricted, Moab vicinity, MP100003819

42GR3002 (Rock Art and Archaeology of Moab's Colorado River System MPS), Address Restricted, Moab vicinity, MP100003820

42GR3003 (Rock Art and Archaeology of Moab's Colorado River System MPS), Address Restricted, Moab vicinity, MP100003821

42GR3004 (Rock Art and Archaeology of Moab's Colorado River System MPS), Address Restricted, Moab vicinity, MP100003822

42GR3005 (Rock Art and Archaeology of Moab's Colorado River System MPS), Address Restricted, Moab vicinity, MP100003823

42GR3006 (Rock Art and Archaeology of Moab's Colorado River System MPS), Address Restricted, Moab vicinity, MP100003824

42GR3007 (Rock Art and Archaeology of Moab's Colorado River System MPS), Address Restricted, Moab vicinity, MP100003825

42GR3008 (Rock Art and Archaeology of Moab's Colorado River System MPS), Address Restricted, Moab vicinity, MP100003826

42GR3009 (Rock Art and Archaeology of Moab's Colorado River System MPS), Address Restricted, Moab vicinity, MP100003827

42GR3010 (Rock Art and Archaeology of Moab's Colorado River System MPS), Address Restricted, Moab vicinity, MP100003828

42GR3011 (Rock Art and Archaeology of Moab's Colorado River System MPS), Address Restricted, Moab vicinity, MP100003829

42GR3014 (Rock Art and Archaeology of Moab's Colorado River System MPS), Address Restricted, Moab vicinity, MP100003830

42GR3054 (Rock Art and Archaeology of Moab's Colorado River System MPS), Address Restricted, Moab vicinity, MP100003831

42GR3055 (Rock Art and Archaeology of Moab's Colorado River System MPS), Address Restricted, Moab vicinity, MP100003832

42GR3058 (Rock Art and Archaeology of Moab's Colorado River System MPS), Address Restricted, Moab vicinity, MP100003833

42GR3059 (Rock Art and Archaeology of Moab's Colorado River System MPS), Address Restricted, Moab vicinity, MP100003834

42GR3060 (Rock Art and Archaeology of Moab's Colorado River System MPS), Address Restricted, Moab vicinity, MP100003835

42GR3234 (Rock Art and Archaeology of Moab's Colorado River System MPS), Address Restricted, Moab vicinity, MP100003836

42GR3235 (Rock Art and Archaeology of Moab's Colorado River System MPS), Address Restricted, Moab vicinity, MP100003837

42GR3236 (Rock Art and Archaeology of Moab's Colorado River System MPS), Address Restricted, Moab vicinity, MP100003838

42GR3237 (Rock Art and Archaeology of Moab's Colorado River System MPS), Address Restricted, Moab vicinity, MP100003839

42GR3238 (Rock Art and Archaeology of Moab's Colorado River System MPS), Address Restricted, Moab vicinity, MP100003840

42GR3239 (Rock Art and Archaeology of Moab's Colorado River System MPS), Address Restricted, Moab vicinity, MP100003841

42GR3240 (Rock Art and Archaeology of Moab's Colorado River System MPS), Address Restricted, Moab vicinity, MP100003842

42GR3241 (Rock Art and Archaeology of Moab's Colorado River System MPS), Address Restricted, Moab vicinity, MP100003843

42GR3242 (Rock Art and Archaeology of Moab's Colorado River System MPS), Address Restricted, Moab vicinity, MP100003844

42GR3243 (Rock Art and Archaeology of Moab's Colorado River System MPS), Address Restricted, Moab vicinity, MP100003845

42GR3245 (Rock Art and Archaeology of Moab's Colorado River System MPS), Address Restricted, Moab vicinity, MP100003846

42GR3246 (Rock Art and Archaeology of Moab's Colorado River System MPS), Address Restricted, Moab vicinity, MP100003847

42GR3247 (Rock Art and Archaeology of Moab's Colorado River System MPS), Address Restricted, Moab vicinity, MP100003848

42GR3294 (Rock Art and Archaeology of Moab's Colorado River System MPS), Address Restricted, Moab vicinity, MP100003849

42GR3248 (Rock Art and Archaeology of Moab's Colorado River System MPS), Address Restricted, Moab vicinity, MP100003850

42GR3333 (Rock Art and Archaeology of Moab's Colorado River System MPS), Address Restricted, Moab vicinity, MP100003851

42GR3340 (Rock Art and Archaeology of Moab's Colorado River System MPS), Address Restricted, Moab vicinity, MP100003852

42GR3350 (Rock Art and Archaeology of Moab's Colorado River System MPS), Address Restricted, Moab vicinity, MP100003853

42GR3351 (Rock Art and Archaeology of Moab's Colorado River System MPS), Address Restricted, Moab vicinity, MP100003854

42GR3366 (Rock Art and Archaeology of Moab's Colorado River System MPS), Address Restricted, Moab vicinity, MP100003855

42GR3367 (Rock Art and Archaeology of Moab's Colorado River System MPS), Address Restricted, Moab vicinity, MP100003856

42GR3368 (Rock Art and Archaeology of Moab's Colorado River System MPS), Address Restricted, Moab vicinity, MP100003857

42GR3371 (Rock Art and Archaeology of Moab's Colorado River System MPS), Address Restricted, Moab vicinity, MP100003858

42GR3577 (Rock Art and Archaeology of Moab's Colorado River System MPS), Address Restricted, Moab vicinity, MP100003859

42GR3644 (Rock Art and Archaeology of Moab's Colorado River System MPS), Address Restricted, Moab vicinity, MP100003860

42GR3645 (Rock Art and Archaeology of Moab's Colorado River System MPS), Address Restricted, Moab vicinity, MP100003861

42GR3646 (Rock Art and Archaeology of Moab's Colorado River System MPS), Address Restricted, Moab vicinity, MP100003862

42GR3647 (Rock Art and Archaeology of Moab's Colorado River System MPS), Address Restricted, Moab vicinity, MP100003863

42GR3648 (Rock Art and Archaeology of Moab's Colorado River System MPS), Address Restricted, Moab vicinity, MP100003864

42GR3649 (Rock Art and Archaeology of Moab's Colorado River System MPS), Address Restricted, Moab vicinity, MP100003865

42GR3650 (Rock Art and Archaeology of Moab's Colorado River System MPS), Address Restricted, Moab vicinity, MP100003866

42GR3651 (Rock Art and Archaeology of Moab's Colorado River System MPS), Address Restricted, Moab vicinity, MP100003867

42GR3658 (Rock Art and Archaeology of Moab's Colorado River System MPS), Address Restricted, Moab vicinity, MP100003868

42GR3659 (Rock Art and Archaeology of Moab's Colorado River System MPS), Address Restricted, Moab vicinity, MP100003869

42GR3660 (Rock Art and Archaeology of Moab's Colorado River System MPS), Address Restricted, Moab vicinity, MP100003870

42GR3661 (Rock Art and Archaeology of Moab's Colorado River System MPS), Address Restricted, Moab vicinity, MP100003871

42GR3662 (Rock Art and Archaeology of Moab's Colorado River System MPS), Address Restricted, Moab vicinity, MP100003872

42GR3663 (Rock Art and Archaeology of Moab's Colorado River System MPS), Address Restricted, Moab vicinity, MP100003873

42GR3664 (Rock Art and Archaeology of Moab's Colorado River System MPS), Address Restricted, Moab vicinity, MP100003874

42GR3665 (Rock Art and Archaeology of Moab's Colorado River System MPS), Address Restricted, Moab vicinity, MP100003875

42GR3794 (Rock Art and Archaeology of Moab's Colorado River System MPS), Address Restricted, Moab vicinity, MP100003876

42GR3848 (Rock Art and Archaeology of Moab's Colorado River System MPS), Address Restricted, Moab vicinity, MP100003877

42GR3849 (Rock Art and Archaeology of Moab's Colorado River System MPS), Address Restricted, Moab vicinity, MP100003878

42GR3850 (Rock Art and Archaeology of Moab's Colorado River System MPS), Address Restricted, Moab vicinity, MP100003879

42GR3851 (Rock Art and Archaeology of Moab's Colorado River System MPS), Address Restricted, Moab vicinity, MP100003880

42GR3852 (Rock Art and Archaeology of Moab's Colorado River System MPS), Address Restricted, Moab vicinity, MP100003881

42GR4177 (Rock Art and Archaeology of Moab's Colorado River System MPS), Address Restricted, Moab vicinity, MP100003882

42GR4365 (Rock Art and Archaeology of Moab's Colorado River System MPS), Address Restricted, Moab vicinity, MP100003883

42GR4379 (Rock Art and Archaeology of Moab's Colorado River System MPS), Address Restricted, Moab vicinity, MP100003884

42GR4380 (Rock Art and Archaeology of Moab's Colorado River System MPS), Address Restricted, Moab vicinity, MP100003885

42GR4466 (Rock Art and Archaeology of Moab's Colorado River System MPS), Address Restricted, Moab vicinity, MP100003886

42GR4467 (Rock Art and Archaeology of Moab's Colorado River System MPS), Address Restricted, Moab vicinity, MP100003887

42GR4468 (Rock Art and Archaeology of Moab's Colorado River System MPS), Address Restricted, Moab vicinity, MP100003888

42GR4830 (Rock Art and Archaeology of Moab's Colorado River System MPS), Address Restricted, Moab vicinity, MP100003889

42GR4832 (Rock Art and Archaeology of Moab's Colorado River System MPS), Address Restricted, Moab vicinity, MP100003890

42GR4833 (Rock Art and Archaeology of Moab's Colorado River System MPS), Address Restricted, Moab vicinity, MP100003891

42GR4837 (Rock Art and Archaeology of Moab's Colorado River System MPS), Address Restricted, Moab vicinity, MP100003892

42GR4844 (Rock Art and Archaeology of Moab's Colorado River System MPS), Address Restricted, Moab vicinity, MP100003893

42GR5421 (Rock Art and Archaeology of Moab's Colorado River System MPS), Address Restricted, Moab vicinity, MP100003894

42GR5422 (Rock Art and Archaeology of Moab's Colorado River System MPS), Address Restricted, Moab vicinity, MP100003895

42GR5423 (Rock Art and Archaeology of Moab's Colorado River System MPS), Address Restricted, Moab vicinity, MP100003896

Authority: Section 60.13 of 36 CFR part 60.

Dated: March 27, 2019.
Kathryn G. Smith,
Acting Chief, National Register of Historic Places/National Historic Landmarks Program.

[FR Doc. 2019-06675 Filed 4-4-19; 8:45 am]

BILLING CODE 4312-52-P